DEPARTMENT OF STATE

[Public Notice 9894]

Advisory Committee on Historical Diplomatic Documentation—Notice of Closed and Open Meetings for 2017

SUMMARY: The Advisory Committee on Historical Diplomatic Documentation will meet on March 6, June 19, September 11, and December 11, 2017, in open session to discuss unclassified matters concerning declassification and transfer of Department of State records to the National Archives and Records Administration and the status of the Foreign Relations series.

The Committee will meet in open session from 11:00 a.m. until noon in SA-4D Conference Room, Department of State, 2300 E Street NW., Washington DC 20372 (Potomac Navy Hill Annex), on all four dates. RSVP should be sent as directed below:

• March 6, not later than February 27, 2017. Requests for reasonable accommodation should be made by February 21, 2017.

• June 19, not later than June 12, 2017. Requests for reasonable accommodation should be made by June 5, 2017.

• September 11, not later than September 5, 2017. Requests for reasonable accommodation should be made by August 28, 2017.

• December 11, not later than December 4, 2017. Requests for reasonable accommodation should be made by November 27, 2017.

Closed Sessions. The Committee's sessions in the afternoon of Monday, March 6, 2017; in the morning of Tuesday, March 7; in the afternoon of Monday, June 19, 2017; in the morning of Tuesday, June 20, 2017; in the afternoon of Monday, September 11, 2017; in the morning of Tuesday, September 12, 2017; in the afternoon of Monday, December 11, 2017; and in the morning of Tuesday, December 12, 2017, will be closed in accordance with Section 10(d) of the Federal Advisory Committee Act (Pub. L. 92-463). The agenda calls for discussions of agency declassification decisions concerning the Foreign Relations series and other declassification issues. These are matters properly classified and not subject to public disclosure under 5 U.S.C. 552b(c)(1) and the public interest requires that such activities be withheld from disclosure.

RSVP Instructions. Prior notification and a valid government-issued photo ID (such as driver's license, passport, U.S. Government or military ID) are required for entrance into the Department of State building. Members of the public planning to attend the open meetings should RSVP, by the dates indicated above, to Julie Fort, Office of the Historian (202-955-0214/0215). When responding, please provide date of birth, valid government-issued photo identification number and type (such as driver's license number/state, passport number/country, or U.S. Government ID number/agency or military ID number/branch), and relevant telephone numbers. If you cannot provide one of the specified forms of ID, please consult with Julie Fort for acceptable alternative forms of picture identification.

Personal data is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at https://foia.state.gov/_docs/SORN/State-36.pdf, for additional information.

Questions concerning the meeting should be directed to Dr. Stephen P. Randolph, Executive Secretary, Advisory Committee on Historical Diplomatic Documentation, Department of State, Office of the Historian, Washington, DC 20372, telephone (202) 955-0215, (email history@state.gov).

Note that requests for reasonable accommodation received after the dates indicated in this notice will be considered, but might not be possible to fulfill.

Stephen P. Randolph,
Executive Secretary, Advisory Committee on Historical, Diplomatic Documentation.

[FR Doc. 2017-03648 Filed 2-23-17; 8:45 am]

BILLING CODE 4710-11-P